DEPARTMENT OF THE INTERIOR

Bureau of Land Management

[UT-910-08-1150-PH-24-1A]

Notice of Utah's Resource Advisory Committee Meeting

AGENCY: Bureau of Land Management, Department of Interior.

ACTION: Notice of Utah's Resource Advisory Committee (RAC) Meeting.

SUMMARY: In accordance with the Federal Land Policy and Management Act (FLPMA) and The Federal Advisory Committee Act of 1972 (FACA), the U.S. Department of the Interior, Bureau of Land Management's (BLM) Utah Resource Advisory Committee (RAC) will meet as indicated below.

DATES: The Utah Resource Advisory Committee (RAC) will meet June 26 (8:30 a.m.-5 p.m.) and June 27, 2008, (8 a.m.-Noon) in Salt Lake City, Utah.

ADDRESSES: On June 26, the RAC will meet at the BLM's Salt Lake Field Office, 2370 South 2300 West, Salt Lake City, Utah, for a briefing and field tour of 5-Mile Pass. On June 27, the RAC will meet at the BLM's Utah State Office, Monument Conference Room, 440 West 200 South, Suite 500, Salt Lake City, Utah, for a business meeting.

FOR FURTHER INFORMATION: Contact Sherry Foot, Special Programs Coordinator, Utah State Office, Bureau of Land Management, P.O. Box 45155, Salt Lake City, Utah, 84145-0155; phone (801) 539-4195.

SUPPLEMENTARY INFORMATION: The 15-member Council advises the Secretary of the Interior, through the Bureau of Land Management, on a variety of planning and management issues associated with public land management in Utah. On June 26 (8:30 a.m.-5 p.m.), the Resource Advisory Committee will meet at the Salt Lake Field Office for a field tour of the 5-Mile Pass area looking at management concerns, discuss the State Parks partnership, draft plan amendment, and rural and urban interface issues. On June 27 (8 a.m.-Noon), the Council will conduct a business meeting at the BLM Utah State Office, Monument Conference Room, Suite 500. Topics of discussion include a follow up session on the field tour; RMP updates; oil and gas updates (as it relates to impacts to recreation and cultural resources); and recreational user-purchased insurance coverage. On June 27, a half-hour public comment period is scheduled to begin from 11:15 a.m.-11:45 a.m. Written comments may be sent to the Bureau of Land Management addressed listed above. All meetings are open to the public; however, transportation, lodging, and meals are the responsibility of the participating public.

Dated: May 5, 2008.
Selma Sierra,
State Director.

[FR Doc. E8-10364 Filed 5-8-08; 8:45 am]

BILLING CODE 4310-DQ-P